ENVIRONMENTAL PROTECTION AGENCY

[FRL-9315-9]

Proposed Settlement Agreement for Recovery of Past Response Costs Under the Comprehensive Environmental Response, Compensation, and Liability Act of 1980, as Amended by the Superfund Amendments and Reauthorization Act of 1986; in Re: Agawam Sportsman's Club Superfund Site, Located in Agawam, MA

AGENCY: Environmental Protection Agency (EPA).

ACTION: Notice of proposed settlement; request for public comment.

SUMMARY: In accordance with the Comprehensive Environmental Response Compensation, and Liability Act, as amended (“CERCLA”), 42 U.S.C. 9601, et. seq., notice is hereby given of a proposed administrative settlement for recovery of past response costs at the Agawam Sportsman's Club Superfund Site, in Agawam, Massachusetts. The settlement requires the settling party, Agwam Sportsman's Club, Inc. (“ASC”) to sell the Site property for fair market value and distribute 90% of the net sale proceeds to the Environmental Protection Agency (the “Agency”) for past response costs incurred at the Site. ASC would be required to distribute the remaining 10% of the net sale proceeds to the Town of Agawam as a result of property tax arrears. ASC has entered into a purchase and sale agreement to sell the Site property to a developer. The settlement includes a covenant not to sue the Settling Party pursuant to section 107(a) of CERCLA, 42 U.S.C. 9607(a).

For thirty (30) days following the date of publication of this notice, the Agency will receive written comments relating to the proposed settlement. The Agency will consider all comments received and may modify or withdraw its consent to the settlement if comments received disclose facts or considerations which indicate that the settlement is inappropriate, improper, or inadequate. The Agency's response to any comments received will be available for public inspection at 5 Post Office Square, Boston, MA 02109-3912.

DATES: Comments must be submitted on or before July 5, 2011

ADDRESSES: Comments should be addressed to the Regional Hearing Clerk, U.S. Environmental Protection Agency, Region I, 5 Post Office Square, Suite 100, Mailcode ORA 18-1, Boston, Massachusetts 02109-3912, and should refer to: In re: Agawam Sportsman's Club Superfund Site, U.S. EPA Docket No. CERCLA-01-2010-0008. .

FOR FURTHER INFORMATION CONTACT: A copy of the proposed Agreement can be obtained from Gregory Dain, U.S. Environmental Protection Agency, Region I, 5 Post Office Square, Suite 100, Mailcode OES 04-2, Boston, Massachusetts 02109-3912, (617) 918-1884.

Dated: May 18, 2011.
Art Johnson,
Acting Director, Office of Site Remediation and Restoration, Region I.

[FR Doc. 2011-13833 Filed 6-2-11; 8:45 am]

BILLING CODE 6560-50-P